DEPARTMENT OF TRANSPORTATION

Federal Aviation Administration

14 CFR Part 71

[Airspace Docket No. 00-ACE-6]

Establishment of Class E Airspace; Salem, MO

AGENCY: Federal Aviation Administration [FAA], DOT.

ACTION: Final rule.

SUMMARY: This action establishes Class E airspace area at Salem, MO. Area Navigation (RNAV) Runway (RWY) 17, RNAV RWY 35 and Omnidirectional Range (VOR)-A Standard Instrument Approach Procedures (SIAPs) have been developed to serve Salem Memorial Airport, Salem, MO. Controlled airspace extending upward from 700 feet Above Ground Level (AGL) is needed to accommodate aircraft executing these SIAPs. This action establishes controlled airspace at Salem, MO for aircraft executing the SIAPs at the Salem Memorial Airport.

EFFECTIVE DATE: 0901 UTC August 10, 2000.

FOR FURTHER INFORMATION CONTACT: Brenda Mumper, Air Traffic Division, Airspace Branch, ACE-520A, DOT Regional Headquarters Building, Federal Aviation Administration, 901 Locust, Kansas City, MO 64106; telephone: (816) 329-2524.

SUPPLEMENTARY INFORMATION:

History

On March 10, 2000, the FAA proposed to amend part 71 of Title 14 of the Federal Regulations (14 CFR part 71) by establishing Class E airspace area at Salem, MO (65 FR 12957). The proposed action will provide controlled airspace to accommodate aircraft executing the RNAV RWY 17, RNAV RWY 35 and VOR-A SIAPs.

Interested parties were invited to participate in this rulemaking proceeding by submitting written comments on the proposal to the FAA. No comments objecting to the proposal were received. Class E airspace areas extending upward from 700 feet or more above the surface of the earth are published in paragraph 6005 of FAA Order 7400.9G, dated September 10, 1999, and effective September 16, 1999, which is incorporated by reference in 14 CFR 71.1. The Class E airspace designation listed in this document will be published subsequently in the Order.

The Rule

This amendment to part 71 of Title 14 of the Federal Regulations (14 CFR part 71) establishes Class E airspace area at Salem, MO, by providing controlled airspace for aircraft executing the RNAV RWY 17, RNAV RWY 35 and VOR-A SIAPs. The area will be depicted on appropriated aeronautical charts.

The FAA has determined that this regulation only involves an established body of technical regulations for which frequent and routine amendments are necessary to keep them operationally current. Therefore, this regulation (1) is not a “significant regulatory action” under Executive Order 12866; (2) is not a “significant rule” under DOT Regulatory Policies and Procedures (44 FR 11034; February 26, 1979); and (3) does not warrant preparation of a Regulatory Evaluation as the anticipated impact is so minimal. Since this is a routing matter that will only affect air traffic procedures and air navigation, it is certified that this rule will not have a significant economic impact on a substantial number of small entities under the criteria of the Regulatory Flexibility Act.

List of Subjects in 14 CFR Part 71

Aviation, Incorporation by reference, Navigation (air).

Adoption of the Amendment

In consideration of the foregoing, the Federal Aviation Administration amends 14 CFR part 71 as follows:

PART 71—DESIGNATION OF CLASS A, CLASS B, CLASS C, CLASS D, AND CLASS E AIRSPACE AREAS; AIRWAYS; ROUTES; AND REPORTING POINTS

1. The authority citation for Part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of Federal Aviation Administration Order 7400.9G, Airspace Designations and Reporting Points, dated September 10, 2000, and effective September 16, 2000, is amended as follows:

Paragraph 6005 Class E airspace areas extending upward from 700 feet or more above the surface of the earth.

* * * * *

ACE MO E5 Salem, MO [New]

Salem Memorial Airport, MO

(Lat. 37°36′55″N., long. 91°36′16″W.)

Maples VORTAC

(Lat. 37°35′27″N., long. 91°47′19″W.)

That airspace extending upward from 700 feet above the surface within a 6.3-mile radius of Salem Memorial Airport, and within 1.1 miles each side of the Maples VORTAC 080° radial extending from the 6.3-mile radius of the Salem Memorial Airport to .2 miles east of the Maples VORTAC.

* * * * *

Issued in Kansas City, MO on April 25, 2000.
Richard L. Day,
Acting Manager, Air Traffic Division, Central Region.

[FR Doc. 00-11318 Filed 5-4-00; 8:45 am]

BILLING CODE 4910-13-M